DEPARTMENT OF DEFENSE

Office of the Secretary

[Transmittal No. 25-1R]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1R.

Dated: January 26, 2026.
Stephanie J. Bost,
Alternate OSD Federal Register Liaison Officer, Department of Defense.

BILLING CODE 6001-FR-P

BILLING CODE6001-FR-C

Transmittal No. 25-1R

REPORT OF ENHANCEMENT OR UPGRADE OF SENSITIVITY OF TECHNOLOGY OR CAPABILITY (SEC. 36(B)(5)(C), AECA)

(i) Prospective Purchaser: Government of Australia

(ii) Sec. 36(b)(1), AECA Transmittal No.: 17-12

Date: June 23, 2017

Implementing Agency: Air Force

(iii) Description: On June 23, 2017, Congress was notified by congressional certification transmittal number 17-12 of the possible sale, under Section 36(b)(1) of the Arms Export Control Act, of up to five (5) Gulfstream G-550 aircraft modified to integrate Airborne Intelligence, Surveillance, Reconnaissance, and Electronic Warfare (AISREW) mission systems, Global Positioning System (GPS) capability, secure communications, aircraft defensive systems; spares, including whole life costs of airborne and ground segments; aircraft modification and integration; ground systems for data processing and crew training; ground support equipment; publications and technical data; United States (U.S.) Government and contractor engineering, technical and logistics support services; flight test and certification; and other related elements of logistical and program support. The estimated total cost was $1.3 billion. Major Defense Equipment (MDE) constituted $.04 billion of this total.

On August 26, 2020, Congress was notified by Congressional certification transmittal number 20-0J of Australia's request for the inclusion of the following non-MDE items and services: spares and repair/return parts; consumables and support equipment; publications and technical documentation; maintenance, training and training equipment; U.S. Government and contractor flight test and certification, aircraft modification and integration, engineering, technical and logistics support services; and other related elements of logistical and program support. These additional items resulted in an increase in non-MDE cost of $500 million, causing a revised total cost for non-MDE of $1.76 billion. Major Defense Equipment (MDE) remained $.04 billion. The total estimated case value increased by $500 million to $1.8 billion.

This transmittal notifies the addition of the following non-MDE items: follow-on sustainment support of the Royal Australian Air Force's Gulfstream G-550 aircraft modified with airborne intelligence, surveillance, reconnaissance, and electronic warfare (AISREW) mission systems; and other related elements of logistics and program support. The estimated total cost of the new items is $230 million. The estimated total case will increase by $230 million to a revised $2.03 billion. There is no MDE associated with this sale.

(iv) Significance: The proposed sale will support Australia's efforts to modernize its electronic warfare support capability and increase interoperability between the U.S. Air Force and the Royal Australian Air Force.

(v) Justification: This proposed sale will support the foreign policy and national security objectives of the U.S. Australia is one of the most important U.S. allies in the Western Pacific. The strategic location of this political and economic power contributes significantly to ensuring peace and economic stability in the region. It is vital to the U.S. national interest to assist our ally in developing and maintaining a strong and ready self-defense capability.

(vi) Date Report Delivered to Congress: November 7, 2025

[FR Doc. 2026-01717 Filed 1-28-26; 8:45 am]

BILLING CODE 6001-FR-P